DEPARTMENT OF AGRICULTURE

Forest Service

Deschutes Provincial Advisory Committee (DPAC)

AGENCY: Forest Service, USDA.

ACTION: Notice of meeting.

SUMMARY: The Deschutes Provincial Advisory Committee will meet on March 30, 2010 to review the status and components of the Provincial Advisory Committee charter in anticipation of rechartering and to provide subcommittee updates on forest restoration, sustainable recreation, travel management, and the Lower Deschutes River. Members will meet at the Deschutes National Forest Supervisor's office (1001 SW. Emkay Drive, Bend, Oregon) from 9 a.m. until 1 p.m. All Deschutes Province Advisory Committee meetings are open to the public.

FOR FURTHER INFORMATION CONTACT: Michael Keown, Province Liaison, Sisters Ranger District, Pine Street and Highway 20, Sisters, Oregon, 97759, Phone (541) 549-7735.

John Allen,
Deschutes National Forest Supervisor.

[FR Doc. 2010-6031 Filed 3-18-10; 8:45 am]

BILLING CODE 3410-11-M